DEPARTMENT OF ENERGY

Federal Energy Regulatory Commission

Combined Notice of Filings #1

July 2, 2010.

Take notice that the Commission received the following electric rate filings:

Docket Numbers: ER98-1796-013; ER98-1127-014; ER97-4281-022; ER10-574-002; ER10-204-003; ER07-486-005; ER07-1406-005; ER07-649-004; ER99-1115-014; ER99-1116-014.

Applicants: EL Segundo Power II LLC, Long Beach Generation LLC, Long Beach Peakers LLC, NRG Power Marketing LLC, Cabrillo Power I LLC, Cabrillo Power II LLC, El Segundo Power LLC, NRG Solar Blythe LLC, Saguaro Power Company, A Limited Partner.

Description: Updated Market Power Analysis of NRG Southwest MBR Entities.

Filed Date: 06/30/2010.

Accession Number: 20100630-5219.

Comment Date: 5 p.m. e.t. on Monday, August 30, 2010.

Docket Numbers: ER98-2640-034; ER98-4590-032.

Applicants: Northern States Power Companies; Public Service Company of Colorado.

Description: Public Service Company of Colorado submits Triennial Market Power Analysis and change-in-status report.

Filed Date: 06/30/2010.

Accession Number: 20100701-0208.

Comment Date: 5 p.m. e.t. on Monday, August 30, 2010.

Docket Numbers: ER98-3184-012; ER00-494-006.

Applicants: TransAlta Energy Marketing (U.S.) Inc.; TransAlta Centralia Generation LLC

Description: TransAlta Entities submits letter requesting that the Commission issue an order classifying as Category 1 Seller in all regions.

Filed Date: 06/30/2010.

Accession Number: 20100701-0246.

Comment Date: 5 p.m. e.t on Wednesday, July 21, 2010.

Docket Numbers: ER00-1814-012; ER98-4336-016; ER99-1435-024.

Applicants: Avista Corporation; Avista Turbine Power, Inc.; Spokane Energy, LLC.

Description: Avista Corporation et al. submits their triennial market power study.

Filed Date: 06/30/2010.

Accession Number: 20100701-0211.

Comment Date: 5 p.m. e.t. on Monday, August 30, 2010.

Docket Numbers: ER00-2469-006.

Applicants: Williams Flexible Generation, LLC.

Description: Application for Finding as a Category 1 Seller of Williams Flexible Generation, LLC.

Filed Date: 06/30/2010.

Accession Number: 20100630-5217.

Comment Date: 5 p.m. e.t. on Wednesday, July 21, 2010.

Docket Numbers: ER00-2815-002.

Applicants: Wheelabrator Shasta Energy Company Inc.

Description: Wheelabrator Shasta Energy Company Inc. submits request for Category 1 Seller Classification pursuant to the requirements of § 35.36 of the regulations of FERC.

Filed Date: 06/30/2010.

Accession Number: 20100630-0232.

Comment Date: 5 p.m. e.t. on Wednesday, July 21, 2010.

Docket Numbers: ER00-3614-014; ER00-443-002; ER08-337-007.

Applicants: BP Energy Company, BP West Coast Products LLC, Watson Cogeneration Company.

Description: Updated Market Power Analysis for Southwest Region of BP Energy Co., Watson Cogeneration Company, and BP West Coast Products, LLC.

Filed Date: 06/30/2010.

Accession Number: 20100630-5039.

Comment Date: 5 p.m. e.t. on Monday, August 30, 2010.

Docket Numbers: ER01-1270-014; ER01-1278-014; ER02-1213-012.

Applicants: Mirant Delta LLC; Mirant Potrero LLC; Mirant Energy Trading LLC;

Description: Mirant Entities submits their joint triennial market power filing.

Filed Date: 06/30/2010.

Accession Number: 20100701-0242.

Comment Date: 5 p.m. e.t. on Monday, August 30, 2010.

Docket Numbers: ER02-1695-008; ER02-2309-007.

Applicants: Cabazon Wind Partners, LLC; Whitewater Hill Wind Partners, LLC.

Description: Cabazon Wind Partners, LLC et al submits updated market power analysis and the revised regional review schedule set forth in Order No 697-C.

Filed Date: 06/30/2010.

Accession Number: 20100701-0207.

Comment Date: 5 p.m. e.t. on Monday, August 30, 2010.

Docket Numbers: ER03-155-012; ER03-179-011; ER04-947-011; ER04-127-010; ER05-222-009; ER02-2018-013; ER09-832-010; ER09-902-005; ER09-901-005; ER09-900-005.

Applicants: POSDEF Power Company, LP; FPL Energy Green Power Wind, LLC; Diablo Winds, LLC; High Winds, LLC; FPL Energy New Mexico Wind, LLC; Blythe Energy, LLC; NextEra Energy Power Marketing, LLC; FPL Energy Cabazon Wind, LLC; Sky River LLC; Victory Garden Phase IV, LLC.

Description: NextEra Companies Southwest Triennial Market Power Update and Request for Waiver.

Filed Date: 06/30/2010.

Accession Number: 20100630-5221.

Comment Date: 5 p.m. e.t. on Monday, August 30, 2010.

Docket Numbers: ER03-342-011; ER03-24-012; ER02-2227-013; ER02-2229-012; ER02-600-014; ER05-67-009; ER05-68-009; ER06-755-009; ER06-756-009; ER99-1983-012; ER01-2887-013; ER01-2688-016

Applicants: Calpine Power America—CA, LLC; Los Esteros Critical Energy Facility LLC; Creed Energy Center, LLC; Goose Haven Energy Center, LLC; Delta Energy Center, LLC; Metcalf Energy Center, LLC; Pastoria Energy Center, LLC; Calpine Gilroy Cogen, L.P.; Los Medanos Energy Center LLC; Geysers Power Company LLC; South Point Energy Center, LLC; Gilroy Energy Center, LLC.

Description: Order 697-A compliance filing re Calpine Applicants.

Filed Date: 06/30/2010.

Accession Number: 20100701-0241.

Comment Date: 5 p.m. e.t. on Wednesday, July 21, 2010.

Docket Numbers: ER05-1178-015; ER09-838-001.

Applicants: Gila River Power LP, Entegra Power Services LLC.

Description: Gila River Power, L.P. and Entegra Power Services, LLC submit Updated Market Power Analysis for Continued Market-Based Rate Authority.

Filed Date: 06/30/2010.

Accession Number: 20100630-5148.

Comment Date: 5 p.m. e.t. on Monday, August 30, 2010.

Docket Numbers: ER05-1232-027; ER07-1113-014; ER09-335-009.

Applicants: J.P. Morgan Ventures Energy Corporation, BE CA LLC.

Description: Updated Market Power Analysis of J.P. Morgan Ventures Energy Corporation and BE CA LLC.

Filed Date: 06/30/2010.

Accession Number: 20100630-5124.

Comment Date: 5 p.m. e.t. on Monday, August 30, 2010.

Docket Numbers: ER06-736-004.

Applicants: Midway Sunset Cogeneration Company.

Description: Updated Market Power Analysis for the Southwest Region of Midway Sunset Cogeneration Company.

Filed Date: 06/30/2010.

Accession Number: 20100630-5224.

Comment Date: 5 p.m. e.t. on Monday, August 30, 2010.

Docket Numbers: ER06-1331-006; ER01-2545-008; ER01-2544-008; ER01-2543-008; ER01-2546-008; ER01-2547-008; ER03-1182-009.

Applicants: CalPeak Power LLC, CalPeak Power—Panoche LLC, CalPeak Power—Vaca Dixon LLC, CalPeak Power—El Cajon LLC, CalPeak Power—Enterprise LLC, CalPeak Power—Border LLC, Tyr Energy LLC.

Description: Updated Market Power Analysis of CalPeak Entities and Tyr Energy, LLC.

Filed Date: 06/30/2010.

Accession Number: 20100630-5218.

Comment Date: 5 p.m. e.t. on Monday, August 30, 2010.

Docket Numbers: ER07-1000-007.

Applicants: Las Vegas Power Company, LLC.

Description: Order 697-A compliance filing re Las Vegas Power Company, LLC.

Filed Date: 06/30/2010.

Accession Number: 20100701-0247.

Comment Date: 5 p.m. e.t. on Wednesday, July 21, 2010.

Docket Numbers: ER07-1106-008.

Applicants: ArcLight Energy Marketing, LLC.

Description: Updated Market Power Analysis of ArcLight Energy Marketing, LLC.

Filed Date: 06/30/2010.

Accession Number: 20100630-5082.

Comment Date: 5 p.m. e.t. on Monday, August 30, 2010.

Docket Numbers: ER08-656-008.

Applicants: Shell Energy North America (US), L.P.

Description: Updated Market Power Analysis for the Southwest Region of Shell Energy North America (US), L.P.

Filed Date: 06/30/2010.

Accession Number: 20100630-5222.

Comment Date: 5 p.m. e.t. on Monday, August 30, 2010.

Docket Numbers: ER08-110-000.

Applicants: Starwood Power-Midway, LLC.

Description: Updated Market Power Analysis of Starwood Power-Midway, LLC.

Filed Date: 06/30/2010.

Accession Number: 20100630-5174.

Comment Date: 5 p.m. e.t. on Monday, August 30, 2010.

Docket Numbers: ER08-912-012; ER09-1723-008; ER05-1146-024; ER07-460-014; ER04-94-024.

Applicants: Iberdrola Renewables; Dry Lake Wind Power, LLC; Shiloh I Wind Project LLC; Dillon Wind LLC; Mountain View Power Partners III. LLC.

Description: Iberdrola Renewables, Inc. et al. submits notifications of and requests for Category 1 Seller classification.

Filed Date: 06/30/2010.

Accession Number: 20100701-0240.

Comment Date: 5 p.m. e.t. on Wednesday, July 21, 2010.

Docket Numbers: ER09-1388-001.

Applicants: Vermont Transco, LLC.

Description: Vermont Transco, LLC submits updated Exhibit A to its FERC Rate Schedule No 1, effective 7/1/2010.

Filed Date: 06/30/2010.

Accession Number: 20100630-0240.

Comment Date: 5 p.m. e.t. on Wednesday, July 21, 2010.

Docket Numbers: ER10-566-001; ER08-1255-003.

Applicants: oso Geothermal Power Holdings, LLC; Oak Creek Wind Power, LLC.

Description: Coso Geothermal Power Holdings, LLC et al submits updated market power analysis in compliance with the requirements of section 35.37 of the regulations of the FERC etc.

Filed Date: 06/30/2010.

Accession Number: 20100630-0239.

Comment Date: 5 p.m. e.t. on Monday, August 30, 2010.

Docket Numbers: ER10-713-002.

Applicants: PJM Interconnection, L.L.C., Carolina Power & Light Company.

Description: Supplemental Information of PJM Interconnection, L.L.C. and Carolina Power and Light Company.

Filed Date: 06/28/2010.

Accession Number: 20100628-5230.

Comment Date: 5 p.m. e.t. on Monday, July 19, 2010.

Docket Numbers: ER10-1310-001.

Applicants: Southwest Power Pool Inc.

Description: Southwest Power Pool, Inc. submits Ninth Revised Service Agreement 607, Fifth Revised Volume No. 1.

Filed Date: 07/01/2010.

Accession Number: 20100701-0257.

Comment Date: 5 p.m. e.t. on Thursday, July 22, 2010.

Docket Numbers: ER10-1319-002.

Applicants: CMS Generation Michigan Power, LLC.

Description: CMS Generation Michigan Power, LLC submits tariff filing per 35: Baseline Cost-Based Tariff to be effective 7/1/2010.

Filed Date: 06/30/2010.

Accession Number: 20100630-5096.

Comment Date: 5 p.m. e.t. on Wednesday, July 21, 2010.

Docket Numbers: ER10-1323-003.

Applicants: RRI Energy West, Inc.

Description: RRI Energy West, Inc. submits an amendment to their Notice of Succession to the tariff.

Filed Date: 06/30/2010.

Accession Number: 20100630-0210.

Comment Date: 5 p.m. e.t. on Wednesday, July 21, 2010.

Docket Numbers: ER10-1353-002.

Applicants: Dearborn Industrial Generation, L.L.C.

Description: Dearborn Industrial Generation, L.L.C. submits tariff filing per 35: Baseline Reactive Supply and Voltage Control Service Tariff No. 1 to be effective 7/1/2010.

Filed Date: 06/30/2010.

Accession Number: 20100630-5112.

Comment Date: 5 p.m. e.t. on Wednesday, July 21, 2010.

Docket Numbers: ER10-1647-000.

Applicants: MidAmerican Energy Company.

Description: MidAmerican Energy Company submits a Notice of Cancellation of the Partial Requirements Wholesale Service Agreement with City of Fonda.

Filed Date: 06/30/2010.

Accession Number: 20100630-0236.

Comment Date: 5 p.m. e.t. on Wednesday, July 21, 2010.

Docket Numbers: ER10-1648-000.

Applicants: Midwest Independent Transmission System Operator, Inc.

Description: Midwest Independent Transmission System Operator, Inc submit proposed revisions to its Open Access Transmission etc to be effective 9/1/10.

Filed Date: 06/30/2010.

Accession Number: 20100630-0235.

Comment Date: 5 p.m. e.t. on Wednesday, July 21, 2010.

Any person desiring to intervene or to protest in any of the above proceedings must file in accordance with rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-17146 Filed 7-13-10; 8:45 am]

BILLING CODE 6717-01-P